DEPARTMENT OF TRANSPORTATION

Federal Highway Administration

Notice of Final Federal Ageny Actions on Proposed Highway in Alaska

AGENCY: Federal Highway Administration (FHWA), DOT.

ACTION: Notice of limitation on claims for judicial review of actions by FHWA and other Federal Agencies.

SUMMARY: This notice announces actions taken by the FHWA and other Federal agencies that are final within the meaning of 23 U.S.C. 139(l)(1). The actions relate to a proposed highway project, the East Lynn Canal Highway, Alaska Route Number 7, from Echol Cove to Katz Point in the Haines and Juneau Boroughs, State of Alaska. Those actions grant licenses, permits, and approvals for the project.

DATES: By this notice, the FHWA is advising the public of final agency action subject to 23 U.S.C. 139(l)(1). A claim seeking judicial review of the Federal agency actions on the highway project will be barred unless the claim is filed on or before October 24, 2006. If the Federal law that authorizes judicial review of a claim provides a time period of less than 180 days for filing such claim, then that shorter time period still applies.

FOR FURTHER INFORMATION CONTACT: Tim Haugh, Environmental and Right-of-Way Programs Manager, FHWA Alaska Division, P.O. Box 21648, Juneau, Alaska 99802-1648; office hours 7 a.m.-4:30 p.m. (AST), phone (907) 586-7418; e-mail Tim.Haugh@fhwa.dot.gov. You may also contact Reuben Yost, Special Projects Manager, Alaska Department of Transportation and Public Facilities DOT&PF), 6860 Glacier Highway, P.O. Box 112506, Juneau, Alaska 99811-2506; office hours 8 a.m.-5 p.m. (AST), phone (907) 465-1774, e-mail Reuben_Yost@dot.state.ak.us.

SUPPLEMENTARY INFORMATION: Notice is hereby given that the FHWA and other Federal agencies have taken final agency actions by issuing approvals for the following highway project in the State of Alaska: FHWA Alaska Division Project Number STP-000S(131) titled the Juneau Access Improvements Project, involves construction of approximately 51 miles of two lane highway from the end of Glacier Highway at Echo cover in the City and Borough of Juneau to a point two miles north of the Katzehin River in the Haines Borough. A ferry terminal will be constructed at the north end of the highway, and new shuttle ferries will be constructed to run from Haines and Skagway. Three major rivers will be bridged as well as several streams. The actions by the Federal agencies, and the laws under which such actions were taken, are described in the Final Environmental Impact Statement (FEIS) for the project, approved on January 18, 2006, in the FHWA Record of Decision (ROD) issued on April 3, 2006, and in other documents in the FHWA administrative record. The FEIS, ROD, and other documents in the FHWA administrative record file are available by contacting the FHWA or the DOT&PF at the addresses provided above. The FHWA FEIS and ROD can be viewed and downloaded from the project Web site at http://dot.alaska.gov/juneauaccess or viewed at public libraries in the project area.

This notice applies to all Federal agency decisions as of the issuance date of this notice and all laws and Executive Orders under which such actions were taken, including but not limited to:

1. General: National Environmental Policy Act (NEPA) [42 U.S.C. 4321-4351]; Federal-Aid Highway Act [23 U.S.C. 109].

2. Air: Clean Air Act, [42 U.S.C. 7401-7671(q)].

3. Land: Section 4(f) of the Department of Transportation Act of 1966 [49 U.S.C. 303].

4. Wildlife: Endangered Species Act [16 U.S.C. 1531-1544 and section 1536], Marine Mammal Protection Act [16 U.S.C. 1361], Fish and Wildlife Coordination Act [16 U.S.C. 661-667(d)], Migratory Bird Treaty Act [16 U.S.C. 703-712]; Magnuson-Stevens Fisheries Conservation and Management Act 1976 as amended [16 U.S.C. 1801 et seq.].

5. Historic and Cultural Resources: Section 106 of the National Historic Preservation Act of 1966, as amended [16 U.S.C. 470(f) et seq.].

6. Social and Economic: Civil Rights Act of 1964 [42 U.S.C. 2000(d)-2000(d)(1)].

7. Wetlands and Water Resources: Land and Water Conservation Fund (LWCF) [16 U.S.C. 4601-4604]; Wild and Scenic Rivers Act [16 U.S.C. 1271-1287].

8. Executive Orders: E.O. 11990 Protection of Wetlands; E.O. 11988 Floodplain Management; E.O. 12898, Federal Actions to Address Environmental Justice in Minority Populations and Low Income Populations; E.O. 13186 Migratory Birds.

(Catalog of Federal Domestic Assistance Program Number 20.205, Highway Planning and Construction. The regulations implementing Executive Order 12372 regarding intergovernmental consultation on Federal programs and activities apply to this program.)

Authority: 23 U.S.C. 139(1)(1).

Issued on: April 18, 2006.
David C. Miller,
Division Administrator, Juneau, Alaska.

[FR Doc. 06-3989 Filed 4-26-06; 8:45am]

BILLING CODE 4910-22-M